DEPARTMENT OF TRANSPORTATION

Federal Railroad Administration

[Docket Number FRA-2015-0115]

Petition for Waiver of Compliance

In accordance with part 211 of Title 49 Code of Federal Regulations (CFR), this document provides the public notice that by a document dated October 16, 2015, Kansas City Southern Railway (KCS) has petitioned the Federal Railroad Administration (FRA) for a waiver of compliance from certain provisions of the Federal railroad safety regulations contained at CFR part 213. FRA assigned the petition Docket Number FRA-2015-0115.

Pursuant to 49 CFR 213.113(a), KCS requests a waiver from the accepted practice of stop/start rail testing to start a 3-year pilot test process of nonstop continuous testing. The projected starting date for implementing the test process would be November 1, 2015. The test process would occur on the main tracks between Kansas City, MO, and Heavener, OK, on the Pittsburgh Subdivision and the Heavener Subdivision. Once the two initial subdivisions are completed, KCS would like to expand the test process to include the Shreveport Subdivision in Shreveport, LA. KCS intends to test the subdivisions within a 30- to 45-day frequency.

For this pilot test, the process would be similar to the waiver granted to Union Pacific Railroad in Docket Number FRA-2015-0003. KCS would not have parallel or redundant stop/start testing on the segments being tested in a nonstop process. KCS will produce a bimonthly report for FRA's Rail and Infrastructure Integrity Division managers. This report would include the in-service rail failure ratios per 49 CFR part 213, a report on the miles tested, and the frequency of testing.

The nonstop continuous rail testing vehicle will be a self-propelled ultrasonic induction unit capable of testing at speeds up to 30 mph. The data will be analyzed from a remote location facility by experts with experience reviewing Rail Flaw Detection test data. The field verification of suspected defects will be conducted by qualified and certified test professionals with recordable field validation equipment, based on GPS location and known track features. KCS believes nonstop continuous rail testing will provide the capability to test track more quickly and frequently, and to minimize the risk of rail service failures.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 16, 2015 will be considered by FRA before final action is taken. Comments received after that date will be considered as far as practicable.

Anyone is able to search the electronic form of any written communications and comments received into any of our dockets by the name of the individual submitting the comment (or signing the comment, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on Monday, November 9, 2015.
Ron Hynes,
Director, Office of Technical Oversight.

[FR Doc. 2015-29162 Filed 11-13-15; 8:45 am]

BILLING CODE 4910-06-P